DEPARTMENT OF TRANSPORTATION

Coast Guard

33 CFR Part 117

[CGD08-00-032]

Drawbridge Operating Regulation; Lower Grand River, LA

AGENCY: Coast Guard, DOT.

ACTION: Notice of temporary deviation from regulations

SUMMARY: The Commander, Eighth Coast Guard District has issued a temporary deviation from the regulation in 33 CFR 117.478(b) governing the operation of the LA 77 bridge across the Lower Grand River, mile 47.0 (Alternate Route) at Grosse Tete, Iberville Parish, Louisiana. This deviation allows the Louisiana Department of Transportation and Development to maintain the bridge in the closed-to-navigation position from 6 a.m. until 11 a.m. and from 1 p.m. to 6 p.m., Monday through Friday, from January 8, 2001 until January 26, 2001. At all others times, the bridge will operate normally for the passage of vessels. This temporary deviation was issued to allow for the replacement of parts damaged on the bridge during an allision in June of 2000.

DATES: This deviation is effective from 6 a.m. on Monday, January 8, 2001, until 6 p.m. Friday, January 26, 2001.

ADDRESSES: Unless otherwise indicated, documents referred to in this notice are available for inspection or copying at the office of the Eighth Coast Guard District, Bridge Administration Branch, Commander (ob), 501 Magazine Street, New Orleans, Louisiana, 70130-3396. The Bridge Administration Branch maintains the public docket for this temporary deviation.

FOR FURTHER INFORMATION CONTACT: Mr. David Frank, Bridge Administration Branch, Commander (ob), Eighth Coast Guard District, 501 Magazine Street, New Orleans, Louisiana, 70130-3396, telephone number 504-589-2965.

SUPPLEMENTARY INFORMATION: The LA 77 bridge across the Lower Grand River, mile 47.0 (Alternate Route) at Grosse Tete, Iberville Parish, Louisiana, has a vertical clearance of 2 feet above high water in the closed-to-navigation position and unlimited clearance in the open-to-navigation position. Navigation on the waterway consists mainly of tows with barges and some recreational craft. The Louisiana Department of Transportation and Development requested a temporary deviation from the normal operation of the bridge in order to accommodate the final repairs to the bridge caused by an allision in June of 2000.

This deviation allows the draw of the LA 77 pontoon drawbridge across the Lower Grand River, mile 47.0 (Alternate Route), at Grosse Tete, Iberville Parish, Louisiana, to remain in the closed-to-navigation position from 6 a.m. until 11 a.m. and from 1 p.m. to 6 p.m., Monday through Friday, from January 8, 2001 until January 26, 2001. Presently, the draw of the LA 77 bridge, mile 47.0 (Alternate Route) at Grosse Tete, shall open on signal; except that, from about August 15 to about June 5 (the school year), the draw need not be opened from 6 a.m. to 8 a.m. and from 2:30 p.m. to 4:30 p.m., Monday through Friday except Federal holidays. The draw shall open on signal at any time for an emergency aboard a vessel.

Dated: December 18, 2000.
Paul J. Pluta,
U.S. Coast Guard, Commander, Eighth Coast Guard District.

[FR Doc. 00-33193 Filed 12-27-00; 8:45 am]

BILLING CODE 4910-15-P